CORPORATION FOR NATIONAL AND COMMUNITY SERVICE

Information Collection; Submission for OMB Review; Comment Request

AGENCY: Corporation for National and Community Service.

ACTION: Notice.

SUMMARY: The Corporation for National and Community Service (hereinafter the “Corporation”), has submitted a public information collection request (ICR) entitled Learn and Serve America Program and Performance Reporting System to the Office of Management and Budget (OMB) for review and approval in accordance with the Paperwork Reduction Act of 1995 (Pub. L. 104-13), (44 U.S.C. Chapter 35). A copy of the ICR, with applicable supporting documentation, may be obtained by calling the Corporation for National and Community Service, Kimberly Spring, 202-606-6629 (kspring@cns.gov). Individuals who use a telecommunications device for the deaf (TTY-TDD) may call (202) 565-2799 between 8:30 a.m. and 5 p.m. Eastern time, Monday through Friday.

ADDRESSES: Comments may be submitted, identified by the title of the information collection activity, to the Office of information and Regulatory Affairs, Attn: Ms. Katherine Astrich, OMB Desk Office for the Corporation for National and Community Service, by any of the following two methods within 30 days from the date of publication in this Federal Register.

(1) By fax to: (202) 395-6974, Attention: Ms. Katherine Astrich, OMB Desk Officer for the Corporation for National and Community Service; and

(2) Electronically by e-mail to: Katherine_T._Astrich@omb.eop.gov.

SUPPLEMENTARY INFORMATION: The OMB is particularly interested in comments which:

• Evaluate whether the proposed collection of information is necessary for the proper performance of the functions of the Corporation, including whether the information will have practical utility;

• Evaluate the accuracy of the Corporation's estimate of the burden of the proposed collection of information, including the validity of the methodology and assumptions used;

• Propose ways to enhance the quality, utility and clarity of the information to be collected; and

• Propose ways to minimize the burden of the collection of information on those who are to respond, including the use of appropriate automated, electronic, mechanical, or other technological collection techniques or other forms of information technology, e.g., permitting electronic submissions of responses.

Comments

A 60-day public comment Notice was published in the Federal Register on May 2, 2007. This comment period ended on July 2, 2007. Comments received included requests for additional directions and response options; clarification of questions on participant race and ethnicity; and the addition of questions specific to training and technical assistance activities. The collection system has been modified to address these comments.

Description: The Corporation is seeking the renewal of the Learn and Serve America Program and Performance Reporting System, also known as LASSIE. The system includes the Program and Performance Measurement Report, which is completed annually by any institution that receives Learn and Serve grant funds. The Report is administered through a web-based system and collects information on the characteristics of reporting institutions, numbers and types of program participants and program partners, service activities, and institutional supports for service-learning. There are three parallel versions of the Report to accommodate differences in terminology and institutional structure among K-12, higher education, and community-based grant recipients.

Type of Review: Renewal.

Agency: Corporation for National and Community Service.

Title: Learn and Serve America Program and Performance Reporting System.

OMB Number: 3045-0095.

Affected Public: Learn and Serve America Grantees and Subgrantees.

Number of Respondents: 2,100.

Frequency: Annually.

Average Time per Response: 1/4 hour for grantees and 1 hour for subgrantees.

Estimated Total Burden Hours: 2025.

Total Burden Cost (capital/startup): None.

Total Burden Cost (operating/maintenance): None.

Dated: August 14, 2007.
Robert Grimm,
Director, Department of Research and Policy Development.

[FR Doc. E7-16689 Filed 8-22-07; 8:45 am]

BILLING CODE 6050-$$-P